DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Capital Expenditures Survey.

Form Number(s): ACE-1(S), ACE-1(M), ACE-1(L), ACE-2.

OMB Control Number: 0607-0782.

Type of Request: Revision of a currently approved collection.

Burden Hours: 132,900.

Number of Respondents: 61,000.

Average Hours per Response: 2 hours and 10 minutes.

Needs and Uses: A major concern of economic policymakers is the adequacy of investment in plant and equipment. The data on the amount of business expenditures for new plant and equipment and measures of the stock of existing facilities are critical to evaluating productivity growth, the ability of U.S. business to compete with foreign business, changes in industrial capacity, and overall economic performance. The ACES survey is the sole source of detailed comprehensive statistics on investment in buildings and other structures, machinery, and equipment by private nonfarm businesses in the United States.

Data users tell us that they need comprehensive and consistent data on investment by all private nonfarm businesses, by industry, by kind of investment, i.e., whether in new or used structures or equipment. The objectives of the ACES survey are:

(a) To provide estimates of capital expenditures for all private nonfarm sectors of the economy by 3-digit and selected 4-digit North American Industry Classification System (NAICS) levels;

(b) To base the survey on a probability sample that yields measures of the statistical reliability of the survey estimates;

(c) To develop a base survey to benchmark more frequent surveys on capital expenditures that do not have complete industry coverage;

(d) To produce annual enterprise-level data with the level of detail, coverage, and quality which previously was only available as part of the quinquennial economic census;

(e) To provide detail on capital expenditures for estimating the national income and product accounts, estimating the productivity of U.S. industries, evaluating fiscal and monetary policy, and conducting research using capital expenditures data; and

(f) To provide industry analysts with capital expenditures data for market analysis, economic forecasting, product development, and business planning.

This request is for a revision of a currently approved collection and will cover the 2007 through 2009 ACES (conducted in fiscal years 2008-2010). Changes from the previous ACES authorization are the collection of capital expenditures by type of structure and type of equipment in the 2008 ACES, and the incorporation of the 2007 North American Industry Classification System (NAICS) in the 2009 ACES.

Capital expenditures by type of structure and type of equipment were last collected from employer companies in the 2003 ACES. These data, collected together once every five years, will again be collected in the 2008 ACES. The data are critical to evaluating the comprehensiveness of capital expenditures statistics in years detailed data on types of structures and equipment are not collected. The detailed structures data will provide a 5-year benchmark for estimates of new construction put in place. The detailed equipment data will provide a periodic measure of expenditures by type of equipment and assist in evaluating estimates of the private equipment and software components of nonresidential fixed investment.

Through the 2008 ACES, data will be based on the 2002 NAICS. Beginning with the 2009 ACES, however, we will collect and publish data based on the 2007 NAICS. Industries in the survey will comprise 3-digit and 4-digit 2007 NAICS codes.

To collect data, the Census Bureau will rely primarily on mail out/mail back survey forms. Employer companies will be mailed one of three forms based on the diversity of their operations, i.e., the number of industries in which they have payroll. All employer forms will have the 3-digit or selected 4-digit NAICS industries imprinted on the form to minimize the need for industry self coding.

Companies that operate in only one industry will receive an ACE-1(S) form. These companies will not be asked to report capital expenditures by industry, thus eliminating the need for industry self coding. Companies that operate in more than one but less than nine industries will receive an ACE-1(M) form. Companies that operate in nine or more industries will receive an ACE-1(L) form.

All ACE-1 forms request sales and receipts information to calculate industry investment to sales ratios and to assist in verifying that consolidated company data are being reported. Asset and depreciation information, also collected, assists in measuring changes in the Nation's capital stock estimates.

Capital expenditures data are also collected annually from a small sample of nonemployer enterprises using Form ACE-2. This collection is intended to better represent the total capital expenditures activity of all firms.

The ACES is an integral part of the Federal Government's effort to improve the quality and usefulness of National economic statistics. Federal agencies, including the Census Bureau, use these data to improve and supplement ongoing statistical programs.

The Census Bureau uses the data to improve the quality of monthly economic indicators of investment. The Bureau's Value of New Construction Put in Place survey currently uses the ACES data to benchmark its industrial buildings data. The Bureau of Economic Analysis (BEA) uses the data in refining and evaluating annual estimates of investment in structures and equipment in the national income and product accounts, compiling annual input-output tables, and computing gross domestic product by industry. The Federal Reserve Board uses the data to improve estimates of investment indicators for monetary policy. The Bureau of Labor Statistics uses the data to improve estimates of capital stocks for productivity analysis. In addition, industry analysts use the data for market analysis, economic forecasting, product development, and business planning.

Affected Public: Business or other for profit organizations; Not-for-profit institutions.

Frequency: Annually.

Respondent's Obligation: Mandatory.

Legal Authority: Title 13 U.S.C. Sections 182, 224, & 225.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Brian Harris-Kojetin, OMB Desk Officer either by fax (202) 395-7245) or e-mail (bharrisk@omb.eop.gov).

Dated: November 2, 2007.
Gwellnar Banks,
Management Analyst, Office of the Chief Information Officer.

[FR Doc. E7-21932 Filed 11-7-07; 8:45 am]

BILLING CODE 3510-07-P